DEPARTMENT OF COMMERCE

National Oceanic and Atmospheric Administration

RIN: 0648-XP25

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of the Reef Fish Advisory Panel (AP).

DATES: The meeting will convene at 1 p.m. on Monday, June 1, 2009 and conclude by 3 p.m. on Tuesday, June 2, 2009.

ADDRESSES: The meeting will be held at the Hilton, 2225 N. Lois Ave., Tampa, FL 33607, (813) 877-6688.

Council address: Gulf of Mexico Fishery Management Council, 2203 N. Lois Avenue, Suite 1100, Tampa, FL 33607.

FOR FURTHER INFORMATION CONTACT: Dr. Carrie Simmons, Fishery Biologist; Gulf of Mexico Fishery Management Council; telephone: (813) 348-1630.

SUPPLEMENTARY INFORMATION: The AP will meet jointly with the Standing and Special Reef Fish Scientific and Statistical Committee (SSC) on the first day of the meeting. The AP and SSC will receive a brief orientation for new members and will hear presentations on update assessments for gag and red grouper. The last full benchmark assessments for these stocks were completed in 2007 (SEDAR 10 for gag and SEDAR 12 for red grouper). The AP and SSC will also hear a presentation on the issues and preferred alternatives in Reef Fish Amendment 31 that address bycatch of sea turtles in the bottom longline reef fish fishery.

Following the presentations, the AP and SSC will reconvene separately. The AP will discuss the gag and red grouper update assessments, and provide comments and recommendations concerning the assessments. The AP will discuss and provide comments and recommendations on Amendment 31. The AP will also elect a new Chair and Vice-chair. The comments and recommendations of the AP will be presented to the Council at its June 15-18, 2009 meeting in Tampa, FL.

Copies of the agendas and other related materials can be obtained by calling (813) 348-1630.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Tina O'Hern at the Council (see ADDRESSES) at least 5 working days prior to the meeting.

Dated: May 13, 2009.
Tracey L. Thompson,
Acting Director, Office of Sustainable Fisheries, National Marine Fisheries Service.

[FR Doc. E9-11471 Filed 5-15-09; 8:45 am]

BILLING CODE 3510-22-S